DEPARTMENT OF HEALTH AND HUMAN SERVICES

Centers for Disease Control and Prevention

Prospective Grant of Exclusive License: Growing Ehrlichia Species in a Continuous Cell Line

AGENCY: Centers for Disease Control and Prevention (CDC), Department of Health and Human Services (HHS).

ACTION: Notice.

SUMMARY: This is a notice in accordance with 35 U.S.C. 209(c)(1) and 37 CFR 404.7(a)(1)(i) that the Centers for Disease Control and Prevention (CDC), Technology Transfer Office, Department of Health and Human Services (HHS), is contemplating the grant of a worldwide, limited field of use, exclusive license to practice the inventions embodied in the patent and patent applications referred to below to Intervet Inc. (Intervet) having a place of business in Millsboro, Delaware. The patent rights in these inventions have been assigned to the government of the United States of America. The patent and patent applications to be licensed are:

Title: Growing Ehrlichia Species in a Continuous Cell Line U.S. Patent Application Serial No. 07/518,182.

Filing Date: 05/03/90.

Domestic Status: Patent No.: 5,192,679.

Issue Date: 03/09/93.

The prospective exclusive license will be royalty-bearing and will comply with the terms and conditions of 35 U.S.C. 209 and 37 CFR 404.7.

Ehrlichiosis is a non-communicable, rarely fatal, rickettsial disease found in the United States. It is clinically similar to Rocky Mountain Spotted Fever but lacks the distinctive rash and is related to Sennetsu Fever, found only in Japan. In the United States ehrlichiosis is caused primarily by E. Chaffeensis. The development of diagnostics and vaccines for these diseases has been hampered by a lack of continuous cell lines to produce large quantities of Ehrlichia antigens. In this invention, a method of growing pathogenic Ehrlichia species in the continuous monocyte-macrophage cell line DH82 has been developed.

ADDRESSES: Requests for a copy of these patent applications, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement will be required to receive a copy of any pending patent application.

Dated: March 4, 2002.
Joseph R. Carter,
Associate Director for Management and Operations, Centers for Disease Control and Prevention.

[FR Doc. 02-5568 Filed 3-7-02; 8:45 am]

BILLING CODE 4163-18-U